DENALI COMMISSION

Denali Commission Infrastructure Investment and Jobs Act (IIJA) Draft Work Plan

AGENCY: Denali Commission.

ACTION: Notice.

SUMMARY: The Denali Commission (Commission) is an independent Federal agency based on an innovative federal-state partnership designed to provide critical utilities, infrastructure and support for economic development and training in Alaska by delivering federal services in the most cost-effective manner possible. This Federal Register notice serves to announce the 30-day opportunity for public comment on the Denali Commission IIJA Draft Work Plan.

DATES: Comments and related material to be received by, June 9, 2022.

ADDRESSES: Submit comments to the Denali Commission, Attention: Elinda Hetemi, 510 L Street, Suite 410, Anchorage, AK 99501.

FOR FURTHER INFORMATION CONTACT: Elinda Hetemi, Denali Commission, 510 L Street, Suite 410, Anchorage, AK 99501. Telephone: (907) 271-3415. Email: ehetemi@denali.gov.

SUPPLEMENTARY INFORMATION:

Background: The Denali Commission's mission is to partner with tribal, federal, state, and local governments and collaborate with all Alaskans to improve the effectiveness and efficiency of government services, to build and ensure the operation and maintenance of Alaska's basic infrastructure, and to develop a well-trained labor force employed in a diversified and sustainable economy.

On November 15, 2021 the IIJA was signed by President Biden. In the IIJA the Denali Commission was allocated $75 million. The law left it to the Commission to determine how best to spend these funds. Through a series of informational meetings the Commissioners reviewed the needs of rural Alaska and decided to allocate the IIJA funds as follows:

—FY 2022 Workplan Amounts: In the FY 2022 Workplan the Commission noted that if additional funds became available then $5,000,000 would be allocated to Village Infrastructure Protection Program (VIP); $250,000 to Broadband and $2,000,000 for Workforce Development. The Commissioners decided to allocate $7,250,000 of the $75 million IIJA funds to these programs consistent with the FY 2022 Workplan.

—5% of the $75 million ($3.75 million) will be allocated to cover administrative costs. This amount includes 0.5% of the funds being set aside for the Inspector General.

—The remaining $64 million will be divided into a five year spend down plan in the following categories with yearly amounts of $1 million for Energy Reliability and Security; $1 million for VIP; $1 million for Workforce Development; $10 million for the Infrastructure Fund and $550,000 set aside for Emergency situations.

The Infrastruture Fund is a new process for the Commission. The Commission will use a public Funding Opportunity Announcement (FOA) to seek applications for funding projects across a wide range of program categories including Energy, Transportation, Healthcare and Community Wellness, VIP, Sanitation, Housing, Broadband, Economic Development and Workforce Development. Applications will be reviewed and ranked according to published criteria with the highest scoring applications receiving funding.

The Commission used the following process to create the IIJA Workplan:

• The Commissioners held several work sessions where they were briefed by program partners on specific program category areas to identify unmet needs in specific programs.

• At a meeting of the Denali Commissioners the Commissioners voted to adopt the IIJA Workplan.

• The work plan was published on Denali.gov for review by the public in advance of public testimony.

• A public hearing was held to record public comments and recommendations on the preliminary draft work plan.

• No public comments were received.

• The Federal Co-Chair prepared the draft work plan for publication in the Federal Register providing a 30-day period for public review and written comment. During this time, the draft work plan will also be disseminated to Commission program partners including, but not limited to, the Bureau of Indian Affairs (BIA), the Economic Development Administration (EDA), Department of Agriculture—Rural Utilities Service (USDA/RUS), and the State of Alaska.

• At the conclusion of the Federal Register Public comment period Commission staff will provide the Federal Co-Chair with a summary of public comments and recommendations, if any, on the draft work plan.

• If no revisions are made to the draft, the Federal Co-Chair will provide notice of approval of the work plan to the Commissioners, and forwards the work plan to the Secretary of Commerce for approval; or, if there are revisions the Federal Co-Chair provides notice of modifications to the Commissioners for their consideration and approval, and upon receipt of approval from Commissioners, forwards the work plan to the Secretary of Commerce for approval.

• The Secretary of Commerce approves the work plan.

• The Federal Co-Chair then approves grants and contracts based upon the approved work plan.

FY 2022 commitments | Yearly amount | Total amount
Village Infrastructure Protection |  | $5,000,000
Broadband |  | 250,000
Workforce Development |  | 2,000,000
Five Year Spend-down Plan:
Energy Reliability and Security | $1,000,000 | 5,000,000
Village Infrastructure Protection | 1,000,000 | 5,000,000
Workforce Development | 250,000 | 1,250,000
Infrastruture Fund | 10,000,000 | 50,000,000
Emergy Fund | 550,000 | 2,750,000
Administrative Costs | 750,000 | 3,750,000
Total | 12,800,000 | 75,000,000

Authority: Pub. L. 105-277 section 304(b)(1).

John Whittington,
General Counsel.

[FR Doc. 2022-09861 Filed 5-6-22; 8:45 am]

BILLING CODE 3300-01-P